Title3—

The President

Presidential Determination No. 2014-06 of December 20, 2013

Proposed Agreement for Cooperation Between the American Institute in Taiwan and the Taipei Economic and Cultural Representative Office in the United States Concerning Peaceful Uses of Nuclear Energy

I have considered the proposed Agreement for Cooperation Between the American Institute in Taiwan and the Taipei Economic and Cultural Representative Office in the United States Concerning Peaceful Uses of Nuclear Energy, along with the views, recommendations, and statements of the interested agencies.

I have determined that the performance of the Agreement will promote, and will not constitute an unreasonable risk to, the common defense and security. Pursuant to section 123 b. of the Atomic Energy Act of 1954, as amended (42 U.S.C. 2153(b)), I hereby approve the proposed Agreement and authorize the Secretary of State to arrange for its execution.

The Secretary of State is authorized to publish this determination in the Federal Register.

THE WHITE HOUSE,

Washington, December 20, 2013

[FR Doc. 2013-31444

Filed 12-30-13; 11:15 am]

Billing code 4710-10